DEPARTMENT OF LABOR

Employment and Training Administration

TA-W-80,340; TA-W-80,340A; TA-W-80,340B]

Bush Industries, Inc., Mason Drive Facility, Including On-Site Leased Workers From Morris Security Services and Express Employment Professionals, Jamestown, New York; Bush Industries, Inc., Allen Street Facility, Including On-Site Leased Workers From Morris Security Services and Express Employment Professionals, Jamestown, New York; Bush Industries of Pennsylvania, Inc., Including On-Site Leased Workers of Labor Ready, Erie, Pennsylvania; Amended Certification Regarding Eligibility To Apply for Worker Adjustment Assistance and Alternative Trade Adjustment Assistance

In accordance with Section 223 of the Trade Act of 1974 (19 U.S.C. 2273), as amended, and Section 246 of the Trade Act of 1974 (26 U.S.C. 2813), as amended, the Department of Labor issued a Certification of Eligibility to Apply for Worker Adjustment Assistance on September 9, 2011, applicable to workers and former workers of Bush Industries, Inc., Mason Drive Facility, Jamestown, New York (TA-W-80,340) and Bush Industries, Inc., Allen Street Facility, Jamestown, New York (TA-W-80,340A). The workers' firm is engaged in activities related to the production of Ready-To-Assemble (RTA) furniture.

At the request of the subject firm, the Department reviewed the certification for workers of the subject firm.

New information provided by the subject firm shows that an affiliated warehouse and distribution facility operated in conjunction with the subject firm's Jamestown, New York facilities and the workers at the Erie, Pennsylvania facility were adversely impacted by increased imports of RTA furniture. The worker group at the Erie, Pennsylvania facility includes on-site leased workers of Labor Ready.

The intent of the Department's certification is to include all workers at the subject firm who are adversely affected by increased imports of RTA furniture during the relevant period.

Based on these findings, the Department is amending this certification to include workers, including on-site leased workers, at the subject firm's Erie, Pennsylvania facility.

The amended notice applicable to TA-W-80,340 is hereby issued as follows:

All workers of Bush Industries, Inc., Mason Drive Facility, including on-site leased workers from Morris Security Services and Express Employment Professionals, Jamestown, New York (TA-W-80,340), Bush Industries, Inc., Allen Street Facility, including on-site leased workers from Morris Security Services and Express Employment Professionals, Jamestown, New York (TA-W-80,340A), and Bush Industries of Pennsylvania, Inc., including on-site leased workers of Labor Ready, Erie, Pennsylvania (TA-W-80,340B), who became totally or partially separated from employment on or after August 7, 2011, through September 9, 2013, eligible to apply for adjustment assistance under Chapter 2 of Title II of the Trade Act of 1974, as amended, and are also eligible to apply for alternative trade adjustment assistance under Section 246 of the Trade Act of 1974, as amended.

Signed in Washington, DC, this 25th day of April, 2013.
Del Min Amy Chen,
Certifying Officer, Office of Trade Adjustment Assistance.

[FR Doc. 2013-11473 Filed 5-14-13; 8:45 am]

BILLING CODE 4510-FN-P